DEPARTMENT OF THE INTERIOR

National Park Service

Final Environmental Impact Statement/Comprehensive Management Plan: Ala Kahakai National Historic Trail, Hawaii County, HI; Notice of Approval of Record of Decision

SUMMARY: Pursuant to 102(2)(C) of the National Environmental Policy Act of 1969 (Pub. L. 91-190, as amended) and the regulations promulgated by the Council on Environmental Quality (40 CFR 1505.2), the Department of the Interior, National Park Service (NPS) has prepared and approved a Record of Decision for the Final Environmental Impact Statement for the Comprehensive Management Plan for the Ala Kahakai National Historic Trail. The requisite no-action “wait period” was initiated November 7, 2008, with the Environmental Protection Agency's Federal Register notification of the filing of the Final EIS.

Decision: As soon as practical the NPS will begin to implement an Ahupua'a trail system (described and analyzed as the agency-preferred Alternative C in the Final EIS, and which includes no substantive changes from the course of action as presented in the Draft EIS). The full range of foreseeable environmental consequences was assessed, and appropriate mitigation measures are included in the approved plan. Both a No Action alternative and an additional “action” alternative were identified and analyzed. During an extended scoping period, strong community support was expressed for concepts which were developed as the agency-preferred alternative presented in the Draft EIS. Due to the minimal nature of public response to the Draft EIS, an abbreviated format was utilized in preparing the Final EIS. As documented in the Draft and Final EIS, the selected alternative was deemed to be the “environmentally preferred” course of action.

Copies: Interested parties desiring to review the Record of Decision may obtain a copy by contacting the Superintendent, Ala Kahakai National Historic Trail, 73-4786 Kanalani St., #14, Kailua-Kona, HI 96740 or via telephone request at (808) 326-6012.

Dated: January 29, 2009.
Cynthia L. Ip,
Acting Regional Director, Pacific West Region.

[FR Doc. E9-5145 Filed 3-10-09; 8:45 am]

BILLING CODE 4310-70-P